DEPARTMENT OF COMMERCE

National Oceanic and Atmospheric Administration

50 CFR Part 622

[Docket No. 230914-0219; RTID 0648-XE741]

Fisheries of the Caribbean, Gulf of Mexico, and South Atlantic; 2025 Recreational Accountability Measure and Closure for Gag in the South Atlantic

AGENCY: National Marine Fisheries Service (NMFS), National Oceanic and Atmospheric Administration (NOAA), Commerce.

ACTION: Temporary rule; closure.

SUMMARY: NMFS implements an accountability measure (AM) for the recreational harvest of gag in South Atlantic Federal waters. NMFS reduces the length of the 2025 recreational fishing season for gag to prevent landings from exceeding the recreational annual catch limit (ACL) as occurred in 2024. Accordingly, NMFS announces the adjusted closure date for the recreational harvest of gag in South Atlantic Federal waters to protect the gag resource.

DATES: This temporary rule is effective from 12:01 a.m. on June 26, 2025, through December 31, 2025.

FOR FURTHER INFORMATION CONTACT: Mary Vara, NMFS Southeast Regional Office, telephone: 727-824-5305, email: mary.vara@noaa.gov.

SUPPLEMENTARY INFORMATION: The snapper-grouper fishery of the South Atlantic includes gag and is managed under the Fishery Management Plan for the Snapper-Grouper Fishery of the South Atlantic Region (FMP). The FMP was prepared by the South Atlantic Fishery Management Council and NMFS, was approved by the Secretary of Commerce, and is implemented by NMFS through regulations at 50 CFR part 622 under the authority of the Magnuson-Stevens Fishery Conservation and Management Act (Magnuson-Stevens Act). All weights in this temporary rule are in gutted weight.

Regulations at 50 CFR 622.193(c)(2) specify the 2025 recreational ACL for gag of 176,665 pounds (80,134 kilograms) and the recreational AMs. The recreational AM at 50 CFR 622.193(b)(2)(ii) states that if recreational landings of gag exceed its ACL, then NMFS will reduce the recreational fishing season during the following fishing year to prevent recreational landings from again exceeding the recreational ACL. NMFS is reducing the length of the 2025 recreational season to prevent landings from exceeding the recreational ACL, because this condition was met in 2024.

The recreational season for gag will start on May 1, 2025. Data from the NMFS Southeast Fisheries Science Center have informed NMFS' projection that recreational landings will reach the recreational ACL for 2025 by June 26. Therefore, NMFS announces that the 2025 recreational season for gag in South Atlantic Federal waters will be closed beginning on June 26 and will continue to be closed through December 31, 2025. During the recreational closure, the bag and possession limits for gag in or from South Atlantic Federal waters are zero. The next recreational fishing season for gag begins on May 1, 2026.

Classification

NMFS issues this action pursuant to section 305(d) of the Magnuson-Stevens Act. This action is required by 50 CFR 622.193(c)(2)(ii), which was issued pursuant to section 304(b) of the Magnuson-Stevens Act, and is exempt from review under Executive Order 12866.

Pursuant to 5 U.S.C. 553(b)(B), there is good cause to waive prior notice and an opportunity for public comment on this action, as notice and comment is unnecessary. Such procedure is unnecessary because the rule that established the recreational AMs for gag has already been subject to public notice and comment, and all that remains is to notify the public of the adjusted end date of the recreational season. Additionally, providing as much advance notice to the public of this shortened fishing season and closure allows recreational fishermen, including businesses that operate charter vessels and headboats, to prepare for the change to the recreational season for gag and to schedule or reschedule their trips.

Authority: 16 U.S.C. 1801 et seq.

Dated: March 18, 2025.
Karen H. Abrams,
Acting Director, Office of Sustainable Fisheries, National Marine Fisheries Service.

[FR Doc. 2025-04903 Filed 3-21-25; 8:45 am]

BILLING CODE 3510-22-P